FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than January 29, 2001.

A. Federal Reserve Bank of Richmond (A. Linwood Gill, III, Vice President) 701 East Byrd Street, Richmond, Virginia 23261-4528:

1. Gateway Financial Corporation, Elizabeth City, North Carolina; to become a bank holding company by acquiring 100 percent of the voting shares of Gateway Bank & Trust Co., Elizabeth City, North Carolina.

B. Federal Reserve Bank of Atlanta (Cynthia C. Goodwin, Vice President) 104 Marietta Street, N.W., Atlanta, Georgia 30303-2713:

1. United Financial Holdings, Inc., Saint Petersburg, Florida; to acquire 100 percent of the voting shares of First Security Bank, Sarasota, Florida.

C. Federal Reserve Bank of Chicago (Phillip Jackson, Applications Officer) 230 South LaSalle Street, Chicago, Illinois 60690-1414:

1. Thumb National Bank & Trust Company Employee Stock Ownership Plan and Trust, Pigeon, Michigan; to become a bank holding company by acquiring 30.52 percent of the voting shares of Thumb Bancorp, Inc., Pigeon, Michigan, and thereby indirectly acquiring voting shares of Thumb National Bank & Trust Company, Pigeon, Michigan.

D. Federal Reserve Bank of Kansas City (D. Michael Manies, Assistant Vice President) 925 Grand Avenue, Kansas City, Missouri 64198-0001:

1. Waukomis Bancshares, Inc., Yukon, Oklahoma; to become a bank holding company by acquiring 100 percent of the voting shares of Covington First State Bancshares, Inc., Covington, Oklahoma, and thereby indirectly acquiring First State Bank, Covington, Oklahoma.

E. Federal Reserve Bank of San Francisco (Maria Villanueva, Consumer Regulation Group) 101 Market Street, San Francisco, California 94105-1579:

1. The Charles Schwab Corporation, San Francisco, California, and U.S. Trust Corporation, New York, New York; to merge with Resource Companies, Inc., Minneapolis, Minnesota, and thereby indirectly acquire Resource Trust Company, Minneapolis, Minnesota.,

2. Franklin Resources, Inc., San Mateo, California; to become a bank holding company by acquiring 100 percent of the voting shares of Fiduciary Trust Company International, New York, New York.

In connection with this application, Applicant also has applied to acquire Franklin Templeton Bank & Trust, F.S.B., Salt Lake City, Utah, and thereby engage in trust company activities pursuant to § 225.28(b)(5) of Regulation Y.

Board of Governors of the Federal Reserve System, December 28, 2000.
Jennifer J. Johnson
Secretary of the Board.

[FR Doc. 01-159 Filed 1-3-01; 8:45 am]

BILLING CODE 6210-01-S